ENVIRONMENTAL PROTECTION AGENCY

[FRL-9952-25-OA]

Notification of Two Public Teleconferences of the Science Advisory Board: Lake Erie Phosphorus Objectives Review Panel

AGENCY: Environmental Protection Agency (EPA).

ACTION: Notice.

SUMMARY: The Environmental Protection Agency (EPA) Science Advisory Board (SAB) Staff Office announces two public teleconferences of the SAB Lake Erie Phosphorus Objectives Review Panel to review its draft report regarding the development of nutrient load reduction targets for Lake Erie.

DATES: The SAB Lake Erie Phosphorus Objectives Review Panel will conduct public teleconferences on October 12 and October 13, 2016. Each of the teleconferences will begin at 1:00 p.m. and end at 5:00 p.m. (Eastern Time).

ADDRESSES: The teleconferences will be conducted by telephone only.

FOR FURTHER INFORMATION CONTACT: Any member of the public who wants further information concerning the public teleconferences may contact Dr. Thomas Armitage, Designated Federal Officer (DFO), EPA Science Advisory Board Staff Office (1400R), U.S. Environmental Protection Agency, 1200 Pennsylvania Avenue NW., Washington, DC 20460; by telephone at (202) 564-2155 or via email at armitage.thomas@epa.gov. General information concerning the EPA SAB can be found at http://www.epa.gov/sab.

SUPPLEMENTARY INFORMATION:

Background: The SAB was established pursuant to the Environmental Research, Development, and Demonstration Authorization Act (ERDDAA), codified at 42 U.S.C. 4365, to provide independent scientific and technical advice to the Administrator on the technical basis for Agency positions and regulations. The SAB is a federal advisory committee chartered under the Federal Advisory Committee Act (FACA), 5 U.S.C., App. 2. The SAB will comply with the provisions of FACA and all appropriate SAB Staff Office procedural policies. Pursuant to FACA and EPA policy, notice is hereby given that the SAB Lake Erie Phosphorus Objectives Review Panel will hold two public teleconferences to discuss its draft report on the development of nutrient load reduction targets for Lake Erie. The Panel will provide advice to the Administrator through the chartered SAB.

EPA Region 5 is co-leading a binational workgroup to develop and implement the Nutrients Annex (“Annex 4”) of the 2012 Great Lakes Water Quality Agreement (GLWQA) in accordance with Article 3(b)(i) of the GLWQA. Under Annex 4, the United States and Canada were charged with establishing binational Substance Objectives for phosphorus concentrations, loading targets, and allocations for the nearshore and offshore waters of Lake Erie. The EPA Region 5 Water Division requested that the SAB review modeling results that informed the development of the binational phosphorus reduction targets. The EPA also requested advice on future work to support implementation and evaluation of nutrient reduction goals for Lake Erie. The SAB Panel reviewed the documents titled Annex 4 Ensemble Modeling Report and Appendix B, and Recommended Phosphorus Loading Targets for Lake Erie. The SAB Panel met on June 21-22, 2016 to receive briefings from the EPA and invited experts, hear public comments, and deliberate on responses to the EPA charge questions (81 FR 31936). The purpose of the teleconferences described in this notice is to discuss the Panel's draft report. The two panel teleconferences will be conducted as one complete meeting beginning on October 12, 2016 and continuing on October 13, 2016, if needed to complete agenda items. Additional information about this SAB advisory activity can be found at the following URL http://yosemite.epa.gov/sab/sabproduct.nsf/fedrgstr_activites/GLWQA%20Annex%204?OpenDocument.

Technical Contacts: Any technical questions concerning work conducted under the GLWQA Annex 4 and the documents reviewed by the SAB should be directed to Ms. Santina Wortman, Water Division, U.S. EPA Region 5, 77 West Jackson Boulevard (WW-15J), Chicago, Illinois 60604, by telephone (312) 353-8319 or via email at wortman.santina@epa.gov.

Availability of Meeting Materials: Prior to the meeting, the teleconference agenda, draft panel report, and other materials will be available on the SAB Web site at http://www.epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant information on the topic of this advisory activity for the SAB to consider during the advisory process. Input from the public to the SAB will have the most impact if it provides specific scientific or technical information or analysis for SAB committees and panels to consider or if it relates to the clarity or accuracy of the technical information. Members of the public wishing to provide comment should contact the DFO directly. Oral Statements: In general, individuals or groups requesting an oral presentation at the teleconference will be limited to three minutes. Interested parties wishing to provide comments should contact Dr. Armitage, DFO, in writing (preferably via email) at the contact information noted above by October 5, 2016, to be placed on the list of public speakers for the meeting. Written Statements: Written statements will be accepted throughout the advisory process; however, for timely consideration by Panel members, statements should be supplied to the DFO (preferably via email) at the contact information noted above by October 5, 2016. It is the SAB Staff Office general policy to post written comments on the Web page for advisory meetings. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Armitage at the contact information provided above. To request accommodation of a disability, please contact Dr. Armitage preferably at least ten days prior to the meeting to give EPA as much time as possible to process your request.

Dated: September 7, 2016.
Khanna Johnston,
Acting Deputy Director, EPA Science Advisory Board Staff Office.

[FR Doc. 2016-21989 Filed 9-12-16; 8:45 am]

BILLING CODE 6560-50-P